DEPARTMENT OF THE INTERIOR

National Park Service

Minor Boundary Revision at Sitka National Historical Park

AGENCY: National Park Service, Interior.

ACTION: Notification of Boundary Revision.

SUMMARY: Notice is hereby given that, pursuant to 16 U.S.C. 460l-9(c)(1), the boundary of Sitka National Historical Park, Sitka, Alaska, is modified to include an additional two tracts totaling 4.03 acres of land. These lands are adjacent to the western boundary of the park and are depicted on a map entitled “Sitka National Historical Park, Proposed Boundary” dated October 2009, and numbered 314/80,013.

FOR FURTHER INFORMATION CONTACT: National Park Service, Chief, Land Resources Program Center, 240 W. 5th Avenue, Anchorage, Alaska 99501; telephone (907) 644-3426. The map depicting the revision is on file and available for inspection at this address and at Sitka National Historical Park, 103 Monastery Street, Sitka, Alaska 99853.

DATES: The effective date of this boundary revision is August 11, 2010.

SUPPLEMENTARY INFORMATION: 16 U.S.C. 460l-9(c)(1) provides that, after notifying the House Committee on Natural Resources and the Senate Committee on Energy and Natural Resources, the Secretary of the Interior is authorized to make this boundary revision upon publication of notice in the Federal Register. The Committees have been notified of this boundary revision. Inclusion of these lands within the park boundary will enable acquisition of the subject tracts by the National Park Service, one by purchase and one by donation. The lands are necessary for watershed and scenic vista protection, and will provide an opportunity to add a scenic waterfront walkway leading to the park.

Dated: July 12, 2010.
Sue E. Masica,
Regional Director, Alaska Region.

[FR Doc. 2010-19738 Filed 8-10-10; 8:45 am]

BILLING CODE 4312-HY-P